ENVIRONMENTAL PROTECTION AGENCY

[ER-FRL-6643-7]

Environmental Impact Statements and Regulations; Availability of EPA Comments

Availability of EPA comments prepared pursuant to the Environmental Review Process (ERP), under section 309 of the Clean Air Act and section 102(2)(c) of the National Environmental Policy Act as amended. Requests for copies of EPA comments can be directed to the Office of Federal Activities at (202) 564-7167. An explanation of the ratings assigned to draft environmental impact statements (EISs) was published in FR dated April 04, 2003 (68 FR 16511).

Draft EISs

ERP No. D-AFS-E65065-KY Rating EC2, Daniel Boone National Forest Land and Resource Management Plan Revision, Implementation, Winchester, several counties, KY.

Summary: EPA has environmental concerns related primarily to water quality improvement goals and objectives for the National Forest. EPA recommends inclusion of several forest-wide goals, objectives and standards to improve water quality and identifies individual, watershed-specific, and management prescriptions for implementation.

ERP No. D-AFS-E65087-AL Rating LO, Forest Health and Restoration Project, Proposal to Determine the Desired Future Conditions of all Existing Loblolly Pine Stands, National Forests in Alabama, Bankhead National Forest, Winston,Lawrence and Franklin Counties, AL.

Summary: EPA supports efforts to restore native upland hardwood forests and pine-oak woodlands. EPA has no objections to this project, provided mitigation measures and monitoring programs, as described in the Draft EIS, are implemented.

ERP No. D-AFS-J65388-UT Rating EC2, North Rich Cattle Allotment, Grazing Authorization,Implementation, Logan District, Wasatch-Cache National National Forest, Cache and Rich Counties, UT Counties, UT.

Summary: EPA expressed environmental concerns regarding impacts from livestock grazing and motorized recreation to wetlands, streams and riparian zones, pathogens in streams, springs and ponds that are habitat for boreal toad (ESA candidate species) and rare Bonneville cutthroat trout. EPA recommended the Proposed Action be modified to eliminate grazing impacts near important aquatic resources.

ERP No. D-AFS-L65419-ID Rating EC2, Upper and Lower East Fork Cattle and Horse Allotment Management Plans, Revision of Allotment Plans to Allow Permitted Livestock Grazing, National Forest System Lands, Sawthooth and Challis National Forests, Custer County, ID.

Summary: EPA expressed environmental concerns with adverse impacts to riparian zones and aquatic habitat from grazing. The final EIS should contain measures to restore and protect critical habitat in the project area. The final EIS should offer a full range of alternatives to meet a well defined purpose and need.

ERP No. D-AFS-L65424-ID Rating EC2, North End Sheep Allotment Management Plan (AMP)Revision, Authorization of Continued Livestock Use, Caribou-Targhee National Forest, Soda Springs Ranger District, Caribou and Bonneville Counties, ID.

Summary: EPA recommends that a broader range of action alternatives be considered in the final EIS to meet the Purpose and Need of the project. EPA recommends that the final EIS further analyze the cumulative effects, especially related to grazing, mining, and other recreational activities that may continue to degrade aquatic habitat.

ERP No. D-FHW-G40175-TX Rating LO, TX-45 Highway Southeast Study, I-35 south at Farm-to-Market Road-1327 to TX-130/US 183,Local Regional Enhancements to the National Transportation Systems, Funding and Right-of-Way Permit Issuance, Travis County, TX.

Summary: EPA has no objections to the preferred alternative.

ERP No. D-FRC-E03010-FL Rating EC2, Ocean Express Pipeline Project, Construction,Operation and Maintenance of an Interstate Natural Gas Pipeline extending from the Exclusive Economic Zone (EEZ) boundary between the United States and the Bahamas, (Docket No. CP02-090-001-1) Plan of Operations Approval, NPDES and U.S. Army COE Section 10 and Possible 404 Permits, Broward County, FL.

Summary: EPA expressed environmental concern about potential impacts to Florida nearshore corals/hardbottoms and onshore mangrove wetlands and the uncertainty of successful Horizontal Directional Drilling crossings. Impact verification and a better mitigation plan to include a relocation plan for corals/hardbottoms was requested.

ERP No. D-IBW-G36155-TX Rating EC2, Lower Rio Grande Flood Control Project,Alternative Vegetation Maintenance Practices Impacts, Implementation, Portions of the Rio Grande, Cameron, Hidalgo and Willacy Counties, TX.

Summary: EPA expressed environmental concerns regarding potential jurisdictional wetland impacts and requested additional information on this issue.

ERP No. D-NPS-E65066-NC Rating LO, Proposed Land Exchange between the National Park Service and the Eastern Band of Cherokee Indians,Exchange of Land Known as Ravensford Site for Land Known as Waterrock Knob Site, Great Smoky Mountains National Park, Cherokee, Graham,Jackson, Macon, Swain Counties, NC.

Summary: EPA supports the 143-acre Revensford site exchange for the Waterrock Knob site; this reduced-acre site exchange would most protect most of the alluvial forest adjacent to the Oconaluftee River that constitutes the 100-year floodplain. EPA also suggested design modifications be considered that would minimize impacts to all 100-year floodplain areas.

ERP No. D-TVA-E39062-00 Rating EC2, Programmatic EIS—Tennessee Valley Authority Reservoir Operations Study, Implementation,TN, AL, KY, GA, MS, NC and VA.

Summary: EPA expressed environmental concerns over the potential water quality impacts associated with the “policy alternatives” and recommended potential modifications to the alternatives and inclusion of mitigation measures.

ERP No. D-USN-K11035-CA Rating EC2, Military Family Housing (MFH) in the San Diego Region, Construction of 1,600 MFH Units, Three MFH Sites are Located in the Marine Corps Air Station (MCAS), Miramar in the City of San Diego,San Diego County, CA.

Summary: EPA raised environmental concerns with potential impacts to aquatic resources regulated under Clean Water Act section 404. EPA asked that the Final EIS and Record of Decision incorporate pollution prevention measures to reduce adverse mitigation to reduce construction-related air pollution.

Final EISs

ERP No. F-AFS-J65368-UT Duck Creek—Swains Access (Duck/Swains), Management Project, Wildlife Habitat, Soil and Watershed Conditions and Motorized Vehicle Use Management Improvements, Dixie National Forest, Cedar City Ranger District, Iron, Garfield and Kane Counties, UT.

Summary: No formal comment letter was sent to the preparing agency.

ERP No. F-AFS-J65370-MT Management Area 11 Snowmobile Use Areas on the Seeley Lake Ranger District, Implementation, Lola National Forest, Missoula and Powell Counties, MT.

Summary: EPA did not identify any potential environmental impacts requiring substantive changes to the proposal but recommended instituting monitoring and enforcement to prevent snowmobile use in unauthorized areas.

ERP No. F-AFS-J65372-CO Trout-West Hazardous Fuels Reduction Project, Proposed Action to Reduce Fuels, Pike-San Isabel National Forest, Trout and West Creek Watersheds, Teller, El Paso and Douglas Counties, CO.

Summary: The final EIS reflects project changes made to address EPA's concerns including measures to minimize impacts, retention of thermal cover and road density reduction. However, EPA continues to have environmental concerns about landscape-level impacts to aquatic resources and terrestrial habitat fragmentation.

ERP No. F-AFS-J65377-CO Missionary Ridge Burned Area Timber Salvage Project, Timber Harvesting, San Juan National Forest north of Durango, LaPlata County, CO.

Summary: EPA has environmental concerns about (1) soil erosion, soil disturbance, and soil compaction; (2) runoff and potential degradation of water quality and habitats in streams and affected reservoirs; (3) sedimentation of streams and water-storage reservoirs; (4) fish and wildlife impacts to sensitive species; and (5) the potential to establish and spread noxious weeds.

ERP No. F-AFS-L65340-AK Finger Mountain Timber Sales, Timber Harvesting, Implementation, U.S. Coast Guard, NPDES and U.S. Army COE Section 10 and 404 Permits, Tongass National Forest, Sitka Ranger District, AK.

Summary: No formal comment letter was sent to the preparing agency.

ERP No. F-AFS-L65393-WA Gardin—Taco Ecosystem Restoration Projects, Implementation, Vegetative Restoration, Road Closures, and Decommissioning, and other Road Improvements, Colville National Forest, Newport Ranger District, Pend Oreille and Stevens Counties, WA.

Summary: No formal comment letter was sent to the preparing agency.

ERP No. F-FHW-D40312-00 Pennsylvania Turnpike/I-95 Interchange Project, Pennsylvania Turnpike (I-276) and I-95 in Buck County, PA Connection with Proposed Interstate Improvements Extending east into Burlington County, NJ.

Summary: EPA has no objections with the preferred alternative. EPA requests that the project team continue to work closely with the appropriate resource agencies to ensure incorporation of any changing environmental conditions as the project proceeds.

ERP No. F-USN-D52000-00 Introduction of F/A 18 E/F (Super Hornet) Aircraft, Replacing the F-14 (TOMCAT) and F/A-18 C/D (Hornet) Aircraft, Homebasing and Operation, Possible Homebase sites include Naval Air Station (NAS) Oceana, VA; Marine Corps Air Station (MCAS) Beaufort, SC and MCAS Cherry Point, NC

Summary: EPA has determined that the Department of the Navy has adequately addressed its comments within the FEIS.

Dated: September 9, 2003.
Ken Mittelholtz,
Environmental Protection Specialist, Office of Federal Activities.

[FR Doc. 03-23306 Filed 9-11-03; 8:45 am]

BILLING CODE 6560-50-P